DEPARTMENT OF COMMERCE

International Trade Administration

[C-552-829]

Passenger Vehicle and Light Truck Tires From the Socialist Republic of Vietnam: Final Results of Countervailing Duty Administrative Review; 2020-2021

AGENCY: Enforcement and Compliance, International Trade Administration, Department of Commerce.

SUMMARY: The U.S. Department of Commerce (Commerce) determines that the company subject to this countervailing duty administrative review of passenger vehicle and light truck tires (PVLT tires) from the Socialist Republic of Vietnam (Vietnam) received countervailable subsidies during the period of review (POR), November 10, 2020, through December 31, 2021.

DATES: Applicable September 29, 2023.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On July 21, 2023, Commerce published the preliminary results of this administrative review in the Federal Register.¹ This review covers one respondent, Bridgestone Tire Manufacturing Vietnam, LLC (Bridgestone).

¹ See Passenger Vehicle and Light Truck Tires from the Socialist Republic of Vietnam: Preliminary Results of Countervailing Duty Administrative Review and Partial Rescission of Administrative Review; 2020-2021, 88 FR 47107 (July 21, 2023) (Preliminary Results), and accompanying Preliminary Decision Memorandum.

We invited interested parties to comment on the Preliminary Results.² On August 21, 2023, we received a timely case brief from the United Steel, Paper and Forestry, Rubber, Manufacturing, Energy, Allied Industrial and Service Workers International Union, AFL-CIO, CLC (the petitioner).³ No party submitted a rebuttal brief or requested a hearing. For a complete description of the events that occurred since the Preliminary Results, see the Issues and Decision Memorandum.⁴

² See Preliminary Results, 88 FR at 41708.

³ See Petitioner's Letter, “Letter in Lieu of a Case Brief,” dated August 21, 2023.

⁴ See Memorandum, “Issues and Decision Memorandum for the Final Results of the Countervailing Duty Administrative Review of Passenger Vehicle and Light Truck Tires from the Socialist Republic of Vietnam; 2020-2021,” dated concurrently with, and hereby adopted by, this notice (Issues and Decision Memorandum).

Scope of the Order ⁵

⁵ See Passenger Vehicle and Light Truck Tires from the Socialist Republic of Vietnam: Countervailing Duty Order, 86 FR 38013 (July 19, 2021) (Order).

The products covered by the Order are PVLT tires from Vietnam. A full description of the scope of the Order is contained in the Issues and Decision Memorandum.

Analysis of Comments Received

All issues raised by interested parties in briefs are addressed in the Issues and Decision Memorandum accompanying this notice. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

In response to arguments from the petitioner, Commerce corrected an error with respect to the currency exchange program. As a result of this change, we updated the final rates for Bridgestone. These changes are explained in the Issues and Decision Memorandum.

Methodology

Commerce conducted this administrative review in accordance with section 751(a)(1)(A) of the Tariff Act of 1930, as amended (the Act). For each subsidy program found to be countervailable, Commerce finds that there is a subsidy, i.e., a financial contribution from a government or public entity that gives rise to a benefit to the recipient, and that the subsidy is specific.⁶ For a full description of the methodology underlying all of Commerce's conclusions, including any determination that relied upon the use of adverse facts available pursuant to section 776(a) and (b) of the Act, see the Issues and Decision Memorandum.

⁶ See sections 771(5)(B) and (D) of the Act regarding financial contribution; section 771(5)(E) of the Act regarding benefit; and section 771(5A) of the Act regarding specificity.

Final Results of Administrative Review

In accordance with 19 CFR 351.221(b)(5), Commerce calculated the following net countervailable subsidy rates for the period November 10, 2020, through December 31, 2021:

Company | Subsidy rate—2020 (percent ad valorem) | Subsidy rate—2021 (percent ad valorem)
Bridgestone Tire Manufacturing Vietnam, LLC | 1.34 | 0.00

Disclosure

We intend to disclose the calculations performed in connection with the final results of review to parties in this proceeding within five days after public announcement of the final results or, if there is no public announcement, within five days of the date of publication of the notice of final results in the Federal Register, in accordance with 19 CFR 351.224(b).

Cash Deposit Instructions

In accordance with section 751(a)(1) of the Act, Commerce intends to instruct CBP to collect cash deposits of estimated countervailing duties in the amount shown for the company listed above for 2021 (i.e., 0.00 percent) on shipments of subject merchandise entered, or withdrawn from warehouse, for consumption on or after the date of publication of the final results of this administrative review. This cash deposit requirement, effective upon publication of the final results of this review, shall remain in effect until further notice.

Assessment Rates

Pursuant to section 751(a)(2)(C) of the Act and 19 CFR 351.212(b)(2), Commerce will determine, and U.S. Customs and Border Protection (CBP) shall assess, countervailing duties on all appropriate entries of subject merchandise covered by this review. We intend to issue assessment instructions to CBP no earlier than 35 days after the date of publication of these final results of review. If a timely summons is filed at the U.S. Court of International Trade, the assessment instructions will direct CBP not to liquidate relevant entries until the time for parties to file a request for a statutory injunction has expired (i.e., within 90 days of publication).

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing the final results of review in accordance with sections 751(a)(1) and 777(i)(1) of the Act and 19 CFR 351.221(b)(5).

Dated: September 25, 2023.
Lisa W. Wang,
Assistant Secretary for Enforcement and Compliance.

Appendix

List of Topics Discussed in the Issues and Decision Memorandum

I. Summary

II. Background

III. Scope of the Order

IV. Changes Since the Preliminary Results

V. Subsidies Valuation Information

VI. Interest Rates, Discount Rates, and Benchmarks

VII. Analysis of Programs

VIII. Discussion of the Issue

Comment: Whether Commerce Should Use a Different Denominator for the Currency Exchanges Program

IX. Recommendation

[FR Doc. 2023-21450 Filed 9-28-23; 8:45 am]

BILLING CODE 3510-DS-P